SECURITIES AND EXCHANGE COMMISSION

Sunshine Act Meeting

Notice is hereby given, pursuant to the provisions of the Government in the Sunshine Act, Public Law 94-409, that the Securities and Exchange Commission will hold an Open Meeting on April 27, 2011 at 10 a.m., in the Auditorium, Room L-002.

The subject matters of the Open Meeting will be:

Item 1: The Commission will consider whether to propose joint rules with the Commodity Futures Trading Commission relating to the definitions of “Swap,” “Security-Based Swap,” “Security-Based Swap Agreement,” the regulation of mixed swaps, and books and records requirements regarding security-based swap agreements.

Item 2: The Commission will consider whether to propose regulations with respect to removing references to credit ratings in various rules under the Securities Exchange Act of 1934.

Commissioner Aguilar, as duty officer, determined that no earlier notice thereof was possible.

At times, changes in Commission priorities require alterations in the scheduling of meeting items.

For further information and to ascertain what, if any, matters have been added, deleted or postponed, please contact:

The Office of the Secretary at (202) 551-5400.

Dated: April 21, 2011.
Cathy H. Ahn,
Deputy Secretary.

[FR Doc. 2011-10072 Filed 4-21-11; 4:15 pm]

BILLING CODE 8011-01-P